FEDERAL COMMUNICATIONS COMMISSION

Open Commission Meeting, Tuesday, October 23, 2018

October 16, 2018.

The Federal Communications Commission will hold an Open Meeting on the subjects listed below on Tuesday, October 23, 2018 which is scheduled to commence at 10:30 a.m. in Room TW-C305, at 445 12th Street SW, Washington, DC.

Because of the unexpected closure of the FCC headquarters on Monday, October 15, the Commission has determined that it is in the public interest to delay for one day the onset of the sunshine period prohibition contained in Section 1.1203 of the Commission's rules, 47 CFR 1.1203. Accordingly, consistent with Section 1.1200(a) of the Commission's rules, 47 CFR 1.1200(a), the Commission hereby modifies its rules so that the sunshine period prohibition will begin at 11:59 p.m. on Wednesday, October 17, rather than at 11:59 p.m. on Tuesday, October 16.

Item No. | Bureau | Subject
1 | Office of Engineering & Technology | Title: Unlicensed Use of the 6 GHz Band (ET Docket No. 18-295); Expanding Flexible Use in Mid-Band Spectrum Between 3.7 and 24 GHz (GN Docket No. 17-183).
|  | Summary: The Commission will consider a Notice of Proposed Rulemaking that promotes the use of mid-band spectrum for broadband by proposing to allow new unlicensed uses of the 5.925-7.125 GHz band while protecting existing and future licensed operations.
2 | Wireless Tel-Communications and Office of Engineering & Technology | Title: Promoting Investment in the 3550-3700 MHz Band (GN Docket No. 17-258).
|  | Summary: The Commission will consider a Report and Order that would make limited changes to the Citizens Broadband Radio Service in the 3.5 GHz band to increase incentives for innovation and investment, including for mobile 5G services.
3 | Wireless Tele-Communications and Public Safety & Homeland Security | Title: Creation of Interstitial 12.5 Kilohertz Channels in the 800 MHz Band Between 809-817/854-862 MHz (WP Docket No. 15-32, RM-11572); Amendment of Part 90 of the Commission's Rules to Improve Access to Private Land Mobile Radio Spectrum (WP Docket No. 16-261); Land Mobile Communications Council Petition for Rulemaking Regarding Interim Eligibility for 800 MHz Expansion Band and Guard Band Frequencies (RM-11719); Petition for Rulemaking Regarding Conditional Licensing Authority Above 470 MHz (RM-11722).
|  | Summary: The Commission will consider a Report and Order and Order opening up new channels in the 800 MHz Private Land Mobile Radio (PLMR) band, eliminating outdated rules, and reducing administrative burdens on PLMR licensees.
4 | Media | Title: Modernization of Media Regulation Initiative (MB Docket No. 17-105); Revisions to Cable Television Rate Regulations (MB Docket No. 02-144); Implementation of Sections of the Cable Television Consumer Protection and Competition Act of 1992: Rate Regulation (MM Docket No. 92-266, MM Docket No. 93-215); Adoption of Uniform Accounting System for the Provision of Regulated Cable Service (CS Docket No. 94-28); Cable Pricing Flexibility (CS Docket No. 96-157).
|  | Summary: The Commission will consider a Further Notice of Proposed Rulemaking and Report and Order to modernize its cable television rate regulations and update or eliminate outdated rules.
5 | Media | Title: Amendment of Section 73.3613 of the Commission's Rules Regarding Filing of Contracts (MB Docket No. 18-4); Modernization of Media Regulation Initiative (MB Docket No. 17-105).
|  | Summary: The Commission will consider a Report and Order eliminating the requirement that broadcast stations routinely file paper copies of contracts and other documents with the FCC.
6 | Wireline Competition | Title: Regulation of Business Data Services for Rate-of-Return Local Exchange Carriers (WC Docket No. 17-144); Business Data Services in an Internet Protocol Environment (WC Docket No. 16-143); Special Access for Price Cap Local Exchange Carriers (WC Docket No. 05-25).
|  | Summary: The Commission will consider a Report and Order that will allow rate-of-return carriers that receive fixed universal service support to elect incentive regulation for their business data services; a Further Notice of Proposed Rulemaking seeking comment on eliminating ex ante pricing regulation for lower capacity TDM services offered by rate-of-return carriers receiving fixed support; and a Second Further Notice of Proposed Rulemaking proposing to eliminate ex ante pricing regulation for TDM transport services offered by price cap carriers.
7 | Enforcement | Title: Enforcement Bureau Action.
|  | Summary: The Commission will consider an enforcement action.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene Dortch,
Secretary.

[FR Doc. 2018-23347 Filed 10-24-18; 8:45 am]

BILLING CODE 6712-01-P